DEPARTMENT OF ENERGY

Federal Energy Regulatory Commission

[Project No. 1390-040]

Southern California Edison Company; Notice Extending Deadline for Filing Reply Comments and Soliciting Additional Motions To Intervene and Protests

May 18, 2005.

Take notice that the due date for filing reply comments set out in the Settlement Agreement notice issued on February 11, 2005, has been extended. Reply comments are now due on June 13, 2005. This notice also provides for the submission of motions to intervene for anyone not already an intervenor in the relicensing proceeding.

a. Type of Application: Settlement Agreement.

b. Project No.: 1390-040.

c. Date filed: February 4, 2005.

d. Applicant: Southern California Edison Company.

e. Name of Project: Lundy Project.

f. Location: On Mill Creek in Mono County, California. The project is located partly on lands in the Inyo National Forest and on land administered by the Bureau of Land Management.

g. Filed Pursuant to: Rule 602 of the Commission's Rules of Practice and Procedure, 18 CFR 385.602.

h. Applicant Contact: Mr. Nino J. Mascolo, Southern California Edison Company, P.O. Box 800, 2244 Walnut Grove Avenue, Rosemead, CA 91770, (626) 302-4459.

i. FERC Contact: John Smith, telephone (202) 502-8972, e-mail john.smith@ferc.gov.

j. Deadline for filing reply comments and motions to intervene: June 13, 2005.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Reply comments and motions to intervene may be filed electronically via the Internet in lieu of paper. The Commission strongly encourages electronic filings. See 18 CFR 385.2001(a)(1)(iii) and the instructions on the Commission's Web site (http://www.ferc.gov) under the “e-Filing” link.

k. A copy of the Settlement Agreement is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

l. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Magalie R. Salas,
Secretary.

[FR Doc. E5-2612 Filed 5-24-05; 8:45 am]

BILLING CODE 6717-01-P